DEPARTMENT OF COMMERCE

International Trade Administration

[A-570-890]

Wooden Bedroom Furniture from the People's Republic of China: Extension of Time Limit for Final Results of Antidumping Duty New Shipper Review

AGENCY: Import Administration, International Trade Administration, Department of Commerce.

DATES: Effective Date: May 26, 2010.

FOR FURTHER INFORMATION CONTACT: Howard Smith or Rebecca Pandolph, AD/CVD Operations, Office 4, Import Administration, International Trade Administration, U.S. Department of Commerce, 14th Street and Constitution Avenue, NW, Washington, DC 20230; telephone: (202) 482-5193 or (202) 482-3627, respectively.

SUPPLEMENTARY INFORMATION:

Background

On March 3, 2010, the Department of Commerce (“Department”) issued the preliminary results of the new shipper review of the antidumping duty order on wooden bedroom furniture from the People's Republic of China (“PRC”) covering sales of subject merchandise made by Zhejiang Tianyi Scientific & Educational Equipment Co., Ltd. (“Zhejiang Tianyi”) for the period January 1, 2009 through June 30, 2009. See Wooden Bedroom Furniture from the People's Republic of China: Preliminary Results of Antidumping Duty New Shipper Review, 75 FR 9581 (March 3, 2010). As explained in the memorandum from the Deputy Assistant Secretary for Import Administration, the Department has exercised its discretion to toll deadlines for the duration of the closure of the Federal Government from February 5, through February 12, 2010. See Memorandum to the Record from Ronald Lorentzen, DAS for Import Administration, regarding “Tolling of Administrative Deadlines As a Result of the Government Closure During the Recent Snowstorm,” dated February 12, 2010. Thus, all deadlines in this segment of the proceeding have been extended by seven days. The current deadline for the final results of this review is currently May 24, 2010.

Extension of Time Limits for Final Results

Section 751(a)(2)(B)(iv) of the Tariff Act of 1930, as amended (“Act”), and 19 CFR 351.214(i)(1) require the Department to issue the final results in a new shipper review of an antidumping duty order 90 days after the date on which the preliminary results are issued. The Department may, however, extend the deadline for completion of the final results of a new shipper review to 150 days if it determines that the case is extraordinarily complicated. See section 751(a)(2)(B)(iv) of the Act and 19 CFR 351.214(i)(2).

The Department finds that this new shipper review is extraordinarily complicated because of a recent filing which calls into question the accuracy and reliability of submissions in this review. In particular, the Department needs additional time to consider whether the information was properly filed and to consider any such information. Accordingly, we are extending the time for the completion of the final results of this review by 60 days, from the current due date of May 24, 2010 to July 23, 2010.

Dated: May 20, 2010.
This notice is published in accordance with section 751(a)(2)(B)(iv) of the Act and 19 CFR 351.214(i)(2).
John M. Andersen,
Acting Deputy Assistant Secretary for Antidumping and Countervailing Duty Operations.

[FR Doc. 2010-12662 Filed 5-25-10; 8:45 am]

BILLING CODE 3510-DS-S